DEPARTMENT OF COMMERCE

National Institute of Standards and Technology

National Fire Codes: Request for Proposals for Revision of Codes and Standards

AGENCY: National Institute of Standards and Technology, Commerce.

ACTION: Notice.

SUMMARY: The National Fire Protection Association (NFPA) proposes to revise some of its fire safety codes and standards, and requests proposals from the public to amend existing, or begin the process of developing new, NFPA fire safety codes and standards. The purpose of this request is to increase public participation in the system used by NFPA to develop its codes and standards. The publication of this notice of request for proposals by the National Institute of Standards and Technology (NIST) on behalf of NFPA is being undertaken as a public service; NIST does not necessarily endorse, approve, or recommend any of the standards referenced in the notice.

DATES: Interested persons may submit proposals on or before the dates listed with the standards.

ADDRESSES: Casey C. Grant, Secretary, Standards Council, NFPA, 1 Batterymarch Park, Quincy, Massachusetts 02269-9101.

FOR FURTHER INFORMATION CONTACT: Casey C. Grant, Secretary, Standards Council, at above address, (617) 770-3000.

SUPPLEMENTARY INFORMATION:

Background

The National Fire Protection Association (NFPA) develops building, fire, and electrical safety codes and standards. Federal agencies frequently use these codes and standards as the basis for developing federal regulations concerning fire safety. Often, the Office of the Federal Register approves the incorporation by reference of these standards under 5 U.S.C. 552(a) and 1 CFR part 51.

Request for Proposals

Interested persons may submit proposals, supported by written data, views, or arguments to Casey C. Grant, Secretary, Standards Council, NFPA, 1 Batterymarch Park, Quincy, Massachusetts 02269-9101. Proposals should be submitted on forms available from the NFPA Codes and Standards Administration Office.

Each person must include his or her name and address, identify the document, and give reasons for the proposal. Proposals received before or by 5 p.m. local time on the closing date indicated would be acted on by the Committee. The NFPA will consider any proposal that it receives on or before the date listed with the code or standard.

At a later date, each NFPA Technical Committee will issue a report, which will include a copy of written proposals that have been received, and an account of their disposition of each proposal by the NFPA Committee as the Report on Proposals. Each person who has submitted a written proposal will receive a copy of the report.

Document No./edition | Title | Proposal closing date
NFPA 1-2003 | Uniform Fire Code™ | 1/5/2004
NFPA 11-2002 | Standard for Low-, Medium-, and High-Expansion Foam Systems | 8/1/2003
NFPA 11A-1999 | Standard for Medium- and High-Expansion Foam Systems | 8/1/2003
NFPA 12-2000 | Standard on Carbon Dioxide Extinguishing Systems 6/27/2003 | NFPA 12
NFPA 13-2002 | Standard for the Installation of Sprinkler Systems | 11/5/2004
NFPA 13D-2002 | Standard for the Installation of Sprinkler Systems in One- and Two-Family Dwellings and Manufactured Homes | 11/5/2004
NFPA 13E-2000 | Recommended Practice for Fire Department Operations in Properties Protected by Sprinkler and Standpipe Systems | 6/27/2003
NFPA 13R-2002 | Standard for the Installation of Sprinkler Systems in Residential Occupancies up to and Including Four Stories in Height | 11/5/2004
NFPA 15-2001 | Standard for Water Spray Fixed Systems for Fire Protection | 12/31/2004
NFPA 24-2002 | Standard for the Installation of Private Fire Service Mains and Their Appurtenances | 11/5/2004
NFPA 35-1999 | Standard for the Manufacture of Organic Coatings | 8/29/2003
NFPA 55-2003 | Standard for the Storage, Use, and Handling of Compressed Gases and Cryogenic Fluids in Portable and Stationary Containers, Cylinders, and Tanks | 6/27/2003
NFPA 59A-2001 | Standard for the Production, Storage, and Handling of Liquefied Natural Gas (LNG) | 6/27/2003
NFPA 76-2002 | Recommended Practice for the Fire Protection of Telecommunications Facilities | 6/27/2003
NFPA 72®-2002 | National Fire Alarm Code® | 12/31/2004
NFPA 99-2002 | Standard for Health Care Facilities | 6/27/2003
NFPA 99B-2002 | Standard for Hypobaric Facilities | 6/27/2003
NFPA 101®-2003 | Life Safety Code® | 10/17/2003
NFPA 102-1995** | Standard for Grandstands, Folding and Telescopic Seating, Tents, and Membrane Structures | 10/17/2003
NFPA 110-2002 | Standard for Emergency and Standby Power Systems | 6/27/2003
NFPA 111-2001 | Standard on Stored Electrical Energy Emergency and Standby Power Systems | 6/27/2003
NFPA 225-P* | Model Manufactured Home Installation Standard | 8/1/2003
NFPA 284-P* | Standard Test Method for Mattresses for Correctional Occupancies | 1/5/2004
NFPA 291-2002 | Recommended Practice for Fire Flow Testing and Marking of Hydrants | 11/5/2004
NFPA 326-1999 | Standard for the Safeguarding of Tanks and Containers for Entry, Cleaning, or Repair | 8/29/2003
NFPA 329-1999 | Recommended Practice for Handling Releases of Flammable and Combustible Liquids and Gases | 8/29/2003
NFPA 501-2003 | Standard on Manufactured Housing | 8/1/2003
NFPA 501A-2003 | Standard for Fire Safety Criteria for Manufactured Home Installations, Sites, and Communities | 8/1/2003
NFPA 1221-2002 | Standard for the Installation, Maintenance, and Use of Emergency Services Communications Systems | 1/5/2004
NFPA 520-1999 | Standard on Subterranean Spaces | 6/28/2002
NFPA 600-2000 | Standard on Industrial Fire Brigades | 6/27/2003
NFPA 601-2000 | Standard for Security Services in Fire Loss Prevention | 6/27/2003
NFPA 720-2003 | Recommended Practice for the Installation of Household Carbon Monoxide (CO) Warning Equipment | 6/27/2003
NFPA 850-2000 | Recommended Practice for Fire Protection for Electric Generating Plants and High Voltage Direct Current Converter Stations | 6/27/2003
NFPA 851-2000 | Recommended Practice for Fire Protection for Hydroelectric Generating Plants | 6/27/2003
NFPA 909-2001 | Code for the Protection of Cultural Resources | 6/27/2003
NFPA 914-2001 | Code for Fire Protection of Historic Structures | 6/27/2003
NFPA 1003-2000 | Standard for Airport Fire Fighter Professiona Qualifications | l6/27/2003
NFPA 1035-2000 | Standard for Professional Qualifications for Public Fire and Life Safety Educator | 6/27/2003
NFPA 1192-2002 | Standard on Recreational Vehicles | 6/27/2003
NFPA 1194-2002 | Standard for Recreational Vehicle Parks and Campgrounds | 6/27/2003
NFPA 1410-2000 | Standard on Training for Initial Emergency Scene Operations | 6/27/2003
NFPA 1452-2000 | Guide for Training Fire Service Personnel to Conduct Dwelling Fire Safety Surveys | 6/27/2003
NFPA 1581-2000 | Standard on Fire Department Infection Control Program | 6/27/2003
NFPA 1971-2000 | Standard on Protective Ensemble For Structural Fire Fighting | 10/31/2003
NFPA 1976-2000 | Standard on Protective Ensemble for Proximity Fire Fighting | 10/31/2003
NFPA 2010-P* | Standard on Aerosol Fire Extinguishing Systems | 8/27/2003
NFPA 5000™-2002 | Building Construction and Safety Code™ | 10/17/2003
P* Proposed NEW drafts may be downloaded from NFPA's Web site at www.nfpa.org/Codes/Drafts.asp. They are also available from NFPA Codes and Standards Administration, 1 Batterymarch Park, P.O. Box 9101, Quincy, MA 02269-9101.
**NFPA 102-2006 is scheduled to become mainly an extract document, drawing its requirements from NFPA 1, Uniform Fire Code ®, NFPA 101 ®, Life Safety Code ®, and NFPA 5000TM, Building Construction and Safety CodeTM. Proposals are especially encouraged on subjects not currently addressed in NFPA 1-2003, NFPA 101-2003, and NFPA 5000-2003.

Dated: July 11, 2003.
Arden L. Bement, Jr.,
Director.

[FR Doc. 03-18486 Filed 7-18-03; 8:45 am]

BILLING CODE 3510-13-P